DEPARTMENT OF DEFENSE

Department of the Army

Notice of Availability of the Final Environmental Impact Statement (FEIS) for Base Closure and Realignment (BRAC) Actions at Fort Sam Houston, TX

AGENCY: Department of the Army, DoD.

ACTION: Notice of Availability (NOA).

SUMMARY: The Department of the Army announces the availability of an FEIS which evaluates the potential environmental impacts associated with realignment actions directed by the BRAC Commission at Fort Sam Houston and Camp Bullis, Texas.

DATES: The waiting period for the FEIS will end 30 days after publication of an NOA in the Federal Register by the U.S. Environmental Protection Agency.

ADDRESSES: For more information or to obtain a copy of the FEIS, please contact: Mr. Phillip Reidinger, Public Affairs Office, Building 124, 1212 Stanley Road, Fort Sam Houston, Texas 78234; e-mail Phillip.Reidinger@samhouston.army.mil.

FOR FURTHER INFORMATION CONTACT: Mr. Phillip Reidinger at (210) 221-1151.

SUPPLEMENTARY INFORMATION: The subject of the FEIS and the Proposed Action are the construction and renovation activities, and movement of personnel associated with the BRAC directed realignment of Fort Sam Houston. The FEIS also evaluates effects of Army Modular Force transformation activities that will occur at Fort Sam Houston at the same time that the BRAC actions are being implemented.

To implement the applicable portions of the BRAC recommendations, Fort Sam Houston will be receiving personnel, equipment, and missions from various realignment and closure actions within the Department of Defense. Additionally, the Army had planned to conduct a series of non-BRAC transformations to position its forces strategically for the future. These transformations require consideration in conjunction with the BRAC initiatives at Fort Sam Houston. Additionally, permanent facilities will be constructed or renovated to house the 470th Military Intelligence Brigade and various Headquarters units of the new Army North and Sixth Army (U.S. Army South or USARSO), which are currently located in a mix of temporary and existing facilities.

To enable implementation of the BRAC Commission recommendations and accommodation of the concurrent Army initiatives, the Army must provide the necessary facilities/buildings and infrastructure to support the changes in force structure.

Following a rigorous examination of all implementation alternatives, those alternatives found not to be viable were dropped from further analysis in the Fort Sam Houston FEIS. Alternatives carried forward include (1) The Preferred Alternative and (2) a No Action Alternative. The Preferred Alternative includes construction, renovation, and operation of proposed facilities to accommodate incoming military missions at Fort Sam Houston. Minor siting variations of proposed facilities were also evaluated.

Planned undertakings within the National Historical Landmark (NHL) District, including the demolition of existing buildings and construction of new buildings, will be reviewed using the Installation Design Guide historic review requirements and the Standard Operating Procedures (SOPs) in the Historic Properties Component (HPC) of the Integrated Cultural Resources Management Plan. If demolition cannot be avoided, the determination of effects to cultural resources of the NHL District and required mitigation will be determined per the HPC SOPs. Implementation of the preferred alternative will have no long-term, significant impacts on other environmental resources of Fort Sam Houston or Camp Bullis or their surrounding areas.

The FEIS analyses indicate that implementation of the preferred alternative would have no long-term, significant impacts on the other environmental resources of Fort Sam Houston or Camp Bullis or their surrounding areas. Potential minor impacts to visual resources from implementation of the preferred alternative would generally occur only within the physical boundaries of Fort Sam Houston and Camp Bullis. No long-term significant impacts to earth (geology, topography, caves, karst features or soils) or wetlands will occur at either installation. Potential land use impacts are expected at Fort Sam Houston. Use of utilities and generation of hazardous and non-hazardous wastes will likely increase at both installations, but not in significant amounts.

Minor air, noise and transportation impacts would also occur during short-term construction activities under the preferred alternative at both installations and continue after final construction and occupancy. No significant impacts to biological resources (vegetation, wildlife, and threatened and endangered species) are expected from the implementation of the preferred alternative. Alternative siting variations would result in similar impacts and benefits as compared to the preferred alternative.

An electronic version of the FEIS can be viewed or downloaded from the following Web site: http://www.hqda.army.mil/acsimweb/brac/nepa_eis_docs.htm.

Dated: March 15, 2007.
Addison D. Davis, IV,
Deputy Assistant Secretary of the Army, (Environment, Safety and Occupational Health).

[FR Doc. 07-1393 Filed 3-21-07; 8:45 am]

BILLING CODE 3710-08-M